DEPARTMENT OF HEALTH AND HUMAN SERVICES

National Institutes of Health

Center for Scientific Review; Amended Notice of Meeting

Notice is hereby given of a change in the meeting of the Skeletal Biology Structure and Regeneration Study Section, February 22, 2004, 8 a.m. to February 24, 2004, 5 p.m. Holiday Inn Georgetown, 2101 Wisconsin Avenue, NW., Washington, DC 20007 which was published in the Federal Register on January 30, 2004, 69 FR 4526-4528.

The meeting will be held February 23-24, 2004. The meeting time and location remain the same. The meeting is closed to the public.

Dated: February 20, 2004.
LaVerne Y. Stringfield,
Director, Office of Federal Advisory Committee Policy.

[FR Doc. 04-4329 Filed 2-26-04; 8:45 am]

BILLING CODE 4140-01-M